NUCLEAR REGULATORY COMMISSION

10 CFR Part 72

RIN 3150-AG94

List of Approved Spent Fuel Storage Casks: NAC-MPC Revision; Confirmation of Effective Date

AGENCY: Nuclear Regulatory Commission.

ACTION: Direct final rule; confirmation of effective date.

SUMMARY: The Nuclear Regulatory Commission (NRC) is confirming the effective date of May 29, 2002, for the direct final rule that appeared in the Federal Register of March 15, 2002 (67 FR 11566). This direct final rule amended the NRC's regulations by revising the NAC-MPC cask system listing within the “List of approved spent fuel storage casks” to include Amendment No. 2 to Certificate of Compliance No. 1025. This document confirms the effective date.

DATES: The effective date of May 29, 2002 is confirmed for this direct final rule.

ADDRESSES: Documents related to this rulemaking, including comments received, may be examined at the NRC Public Document Room, 11555 Rockville Pike, Rockville, MD. These same documents may also be viewed and downloaded electronically via the rulemaking website (http://ruleforum.llnl.gov). For information about the interactive rulemaking website, contact Ms. Carol Gallagher (301) 415-5905; e-mail CAG@nrc.gov.

FOR FURTHER INFORMATION CONTACT: Jayne M. McCausland, Office of Nuclear Material Safety and Safeguards, U.S. Nuclear Regulatory Commission, Washington, DC 20555, telephone (301) 415-6219 (e-mail: jmm2@nrc.gov).

SUPPLEMENTARY INFORMATION: On March 15, 2002 (67 FR 11566), the NRC published in the Federal Register a direct final rule amending its regulations in part 72 by revising the NAC International Multi-Purpose Canister (NAC-MPC) cask system listing within the “List of approved spent fuel storage casks” to include Amendment 2 to Certificate of Compliance (CoC) No. 1025. This amendment allows for modification of the design of the cask system to accommodate a new type of fuel. The modifications include increased length of the fuel basket and canister, transfer cask, and vertical concrete cask. Changes also include a redesigned fuel basket to accommodate 26 fuel assemblies, with an alternate 24-fuel assembly configuration and increased transfer cask radial shielding. The CoC has been revised in its entirety to include a reference to the new type of fuel and a revised format. The Technical Specifications (TS) have also been revised in their entirety to include specifications for the new type of fuel, new operational limits, and to incorporate a revised format for the TS. In the direct final rule, NRC stated that if no significant adverse comments were received, the direct final rule would become final on May 29, 2002. The NRC did not receive any comments on the direct final rule. Therefore, this rule will become effective as scheduled.

Dated at Rockville, Maryland, this 7th day of May, 2002.
For the Nuclear Regulatory Commission.
Michael T. Lesar,
Chief, Rules and Directives Branch, Division of Administrative Services, Office of Administration.

[FR Doc. 02-11874 Filed 5-10-02; 8:45 am]

BILLING CODE 7590-01-P